DEPARTMENT OF TRANSPORTATION

Federal Aviation Administration

14 CFR Part 39

[Docket No. FAA-2013-0523; Directorate Identifier 2012-SW-091-AD; Amendment 39-17664; AD 2013-23-09]

RIN 2120-AA64

Airworthiness Directives; Eurocopter France Helicopters

AGENCY: Federal Aviation Administration (FAA), DOT.

ACTION: Final rule.

SUMMARY: We are adopting a new airworthiness directive (AD) for Eurocopter France (Eurocopter) Model AS350B, AS350BA, AS350B1, AS350B2, AS350B3, AS350C, AS350D, AS350D1, AS355E, AS355F, AS355F1, AS355F2, AS355N, and AS355NP helicopters with sliding doors, except those with modification AL.4262. This AD requires removing from service certain part-numbered nuts and washers from the lower ball-joint bolt. This AD was prompted by a report of a sliding door detaching from the helicopter in flight. These actions are intended to prevent loss of the lower ball-joint nut, which could lead to loss of the sliding door and damage to the helicopter.

DATES: This AD is effective December 27, 2013.

ADDRESSES: For service information identified in this AD, contact American Eurocopter Corporation, 2701 N. Forum Drive, Grand Prairie, TX 75052; telephone (972) 641-0000 or (800) 232-0323; fax (972) 641-3775; or at http://www.eurocopter.com/techpub. You may review the referenced service information at the FAA, Office of the Regional Counsel, Southwest Region, 2601 Meacham Blvd., Room 663, Fort Worth, Texas 76137.

Examining the AD Docket

You may examine the AD docket on the Internet at http://www.regulations.gov or in person at the Docket Operations Office between 9 a.m. and 5 p.m., Monday through Friday, except Federal holidays. The AD docket contains this AD, the foreign authority's AD, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Robert Grant, Aviation Safety Engineer, Safety Management Group, FAA, 2601 Meacham Blvd., Fort Worth, Texas 76137; telephone 817-222-5110; email robert.grant@faa.gov.

SUPPLEMENTARY INFORMATION:

Discussion

On June 20, 2013 at 78 FR 37154, the Federal Register published our notice of proposed rulemaking (NPRM), which proposed to amend 14 CFR part 39 to add an AD that would apply to Eurocopter Model AS350B, AS350BA, AS350B1, AS350B2, AS350B3, AS350C, AS350D, AS350D1, AS355E, AS355F, AS355F1, AS355F2, AS355N, and AS355NP helicopters with sliding doors installed, except those with modification AL.4262. The NPRM proposed to require removing from service each nut, part number (P/N) ASN52320BH060N, and each washer, P/N 23111AG0LE, within 165 hours time-in-service (TIS) and replacing them with an airworthy nut and washer. The proposed requirements were intended to prevent loss of the lower ball-joint nut, which could lead to loss of the sliding door and damage to the helicopter.

The NPRM was prompted by AD No. 2012-0205, dated October 1, 2012, issued by the European Aviation Safety Agency (EASA), which is the Technical Agent for the Member States of the European Union. EASA issued AD 2012-0205 to correct an unsafe condition for Eurocopter Model AS350B, AS350BA, AS350BB, AS350B1, AS350B2, AS350B3, AS350D, AS355E, AS355F, AS355F1, AS355F2, AS355N, and AS355NP helicopters with a sliding door installed, except those with modification AL. 4262. EASA advises that during a patrol flight with the doors open, the right-hand (RH) sliding door became detached and was lost in-flight. EASA states it was discovered that the nut of the ball-joint bolt was missing, which allowed the ball-joint bolt to detach from the door and the door to “fall off” the aircraft. According to EASA, a check of the left-hand (LH) sliding door revealed that the nut of the ball-joint bolt was not tightened, and could be unscrewed by hand. EASA advises that the self-locking characteristics of the nut were lost, possibly due to a defective assembly of the ball-joint bolt. This failure of the self-locking characteristics of the nut could lead to loss of the sliding door in-flight, potentially resulting in damage of the surrounding helicopter structure and possible injury to persons on the ground. For these reasons, EASA issued AD 2012-0205 to require modification AL.4262, which specifies replacing each nut, P/N ASN52320BH060N, and washer, P/N 23111AG0LE, with nut, P/N 22542K060, and lock-washer, P/N 23351AC060LE, on the lower ball-joint bolt.

Comments

We gave the public the opportunity to participate in developing this AD, but we did not receive any comments on the NPRM (78 FR 37154, June 20, 2013).

FAA's Determination

These helicopters have been approved by the aviation authority of France and are approved for operation in the United States. Pursuant to our bilateral agreement with France, EASA, its technical representative, has notified us of the unsafe condition described in the EASA AD. We are issuing this AD because we evaluated all information provided by EASA and determined the unsafe condition exists and is likely to exist or develop on other helicopters of these same type designs and that air safety and the public interest require adopting the AD requirements as proposed.

Differences Between This AD and the EASA AD

The EASA AD requires replacing the lower ball-joint nut and washer within 165 flight hours or 13 calendar months, while this AD requires replacing the affected lower ball joint nut and washer within 165 hours TIS. In addition, this AD does not apply to the Model AS350BB as that helicopter is not type-certificated in the U.S., but it applies to Models AS350C and AS350D1 because those models have a similar lower ball joint nut and washer.

Related Service Information

Eurocopter has issued Alert Service Bulletin (ASB) No. AS350-52.00.34 for Model AS350 B, B1, B2, B3, BA, BB, D, and L1 helicopters and ASB No. AS355-52.00.26 for Model AS355 E, F, F1, F2, N, and NP helicopters, both Revision 0 and both dated July 9, 2012. The ASBs describe procedures to replace the nuts and lock-washers on the LH and RH sliding door lower ball-joint bolts with different part numbered nuts and lock-washers, to “double lock” the lower ball-joint bolts. Eurocopter designates the maintenance procedure and design change in its ASBs as modification AL.4262.

Costs of Compliance

We estimate that this AD will affect 900 helicopters of U.S. Registry.

We estimate that operators may incur the following costs in order to comply with this AD. At an average labor rate of $85 per hour, replacing the nuts and washers on the sliding doors will require about 1 work-hour, and required parts costs will be minimal, for a cost per helicopter of $85 and a total cost to U.S. operators of $76,500.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-23-09 Eurocopter France: Amendment 39-17664; Docket No. FAA-2013-0523; Directorate Identifier 2012-SW-091-AD.

(a) Applicability

This AD applies to Eurocopter France (Eurocopter) Model AS350B, AS350BA, AS350B1, AS350B2, AS350B3, AS350C, AS350D, AS350D1, AS355E, AS355F, AS355F1, AS355F2, AS355N, and AS355NP helicopters with sliding doors installed, except those with modification AL.4262, certificated in any category.

(b) Unsafe Condition

This AD defines the unsafe condition as loss of the self-locking feature of the sliding door lower ball-joint nut. This condition could result in detachment of the lower ball-joint bolt from the sliding door and subsequent loss of the sliding door from the helicopter in flight.

(c) Effective Date

This AD becomes effective December 27, 2013.

(d) Compliance

You are responsible for performing each action required by this AD within the specified compliance time unless it has already been accomplished prior to that time.

(e) Required Actions

(1) Within 165 hours time-in-service, remove each nut, part number (P/N) ASN52320BH060N, and each washer, P/N 23111AG0LE, from the left-hand and right-hand sliding door lower ball-joint bolts and replace them with an airworthy nut and washer.

(2) Do not install a nut, P/N ASN52320BH060N, or washer, P/N 23111AG0LE, on any sliding door lower ball-joint bolt.

(f) Special Flight Permits

Special flight permits are prohibited.

(g) Alternative Methods of Compliance (AMOCs)

(1) The Manager, Safety Management Group, FAA, may approve AMOCs for this AD. Send your proposal to: Robert Grant, Aviation Safety Engineer, Safety Management Group, FAA, 2601 Meacham Blvd., Fort Worth, Texas 76137; telephone 817-222-5110; email robert.grant@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(h) Additional Information

(1) Eurocopter Alert Service Bulletin (ASB) No. AS350-52.00.34 for Model AS350B, B1, B2, B3, BA, BB and D and L1 helicopters and ASB No. AS355-52.00.26 for Model AS355E, F, F1, F2, N, and NP helicopters, both Revision 0 and both dated July 9, 2012, which are not incorporated by reference, contain additional information about the subject of this AD. For service information identified in this AD, contact American Eurocopter Corporation, 2701 N. Forum Drive, Grand Prairie, TX 75052; telephone (972) 641-0000 or (800) 232-0323; fax (972) 641-3775; or at http://www.eurocopter.com/techpub. You may review the referenced service information at the FAA, Office of the Regional Counsel, Southwest Region, 2601 Meacham Blvd., Room 663, Fort Worth, Texas 76137.

(2) The subject of this AD is addressed in European Aviation Safety Agency (EASA) AD No. 2012-0205, dated October 1, 2012. You may view the EASA AD on the internet in AD Docket No. FAA-2013-0523 at http://www.regulations.gov.

(i) Subject

Joint Aircraft Service Component (JASC) Code: 5200: Doors.

Issued in Fort Worth, Texas, on November 5, 2013.
Lance T. Gant,
Acting Directorate Manager, Rotorcraft Directorate, Aircraft Certification Service.

[FR Doc. 2013-27636 Filed 11-21-13; 8:45 am]

BILLING CODE 4910-13-P